DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to section 10(c) of the Endangered Species Act of 1973, as amended (16 U.S.C. 1531 et seq.).

If you wish to comment, you may submit comments by any one of several methods. You may mail comments to the Service's Regional Office (see ADDRESSES). You may also comment via the internet to “victoria_davis@fws. gov”. Please submit comments over the internet as an ASCII file avoiding the use of special characters and any form of encryption. Please also include your name and return address in your internet message. If you do not receive a confirmation from the Service that we have received your internet message, contact us directly at either telephone number listed below (see FOR FURTHER INFORMATION CONTACT). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

DATES: Written data or comments on these applications must be received, at the address given below, by April 19, 2001.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: Applicant: Jack Greenlee, De Soto Ranger District, U.S. Forest Service, Wiggins, Mississippi TE033485-0.

The applicant requests authorization to remove and reduce to whole possession specimens of the Louisiana quillwort, Isoetes louisianensis, and the American chaffseed, Schwalbea americana. The purposes of removal to whole possession for the Louisiana quillwort are to conduct genetic tests to differentiate species within the genus Isoetes, to collect voucher specimens, and to conduct population surveys. The purposes of removal to whole possession for the American chaffseed are to collect voucher specimens and to conduct population surveys. The proposed activities will take place in the following Mississippi counties: Harrison, Hancock, Jackson, Pearl River, Stone, George, Lamar, Forrest, Perry, Greene, Jones, and Wayne. The specimens will be deposited into an actively curated herbarium.

Applicant: Steve M. Lohr, Shaw Air Force Base, South Carolina TE039592-0.

The applicant requests authorization to take (harass during capturing, banding, releasing, monitoring, and habitat management) the Red-cockaded woodpecker, Picoides borealis, for the purposes of managing the populations on Poinsett Electronic Combat Range. The proposed activities will take place in Sumter County, South Carolina.

Applicant: Carlos E. Diez, Puerto Rico Department of Natural and Environmental Resources, San Juan, Puerto Rico TE039589-0.

The applicant requests authorization to take (capture, collect, relocate, and euthanize) Hawksbill sea turtle, Eretmochelys imbricata, for the purposes of conducting genetic studies on 200 eggs and 420 hatchlings to determine the sex ratios of the hatchlings that are being produced on Mona Island. The proposed study consists of three phases: (1) Determination of the pivotal temperature (the incubation temperature at which both sexes are produced in equal proportion); (2) a methodological validation; and (3) the estimation of the sex ratio in hatchlings incubated on Mona Island's beaches. The proposed activities will take place on Mona Island, Puerto Rico.

Dated: March 7, 2001.
Judy Jones,
Acting Regional Director.

[FR Doc. 01-6806 Filed 3-19-01; 8:45 am]

BILLING CODE 4310-55-P